STATE JUSTICE INSTITUTE

SJI Board of Directors Meeting, Notice

AGENCY: State Justice Institute.

ACTION: Notice of meeting.

SUMMARY: The purpose of this meeting is to consider grant applications for the 1st quarter of FY 2024, and other business.

DATES: The SJI Board of Directors will be meeting on Monday, December 4, 2023 at 1 p.m. ET.

ADDRESSES: SJI Headquarters, 12700 Fair Lakes Circle, Suite 340, Fairfax, Virginia.

FOR FURTHER INFORMATION CONTACT: Jonathan Mattiello, Executive Director, State Justice Institute, 12700 Fair Lakes Circle, Suite 340, Fairfax, VA 22033, 703-660-4979, contact@sji.gov.

(Authority: 42 U.S.C. 10702(f).)

Jonathan D. Mattiello,
Executive Director.

[FR Doc. 2023-24695 Filed 11-7-23; 8:45 am]

BILLING CODE 6820-SC-P